DEPARTMENT OF ENERGY

Federal Energy Regulatory Commission

[Project No. 5944-024]

Moretown Hydroelectric LLC; Notice of Application Ready for Environmental Analysis and Soliciting Comments, Recommendations, Terms and Conditions, and Prescriptions

Take notice that the following license application has been filed with the Commission and is available for public inspection.

a. Type of Application: Subsequent License.

b. Project No.: P-5944-024.

c. Date filed: November 30, 2020.

d. Applicant: Moretown Hydroelectric LLC.

e. Name of Project: Moretown No. 8 Hydroelectric Project (Moretown Project).

f. Location: The existing hydroelectric project is located on the Mad River in Washington County, Vermont. The project does not occupy any federal land.

g. Filed Pursuant to: Federal Power Act 16 U.S.C. 791(a)-825(r)

h. Applicant Contact: Arion Thiboumery, Moretown Hydroelectric, LLC, 1273 Fowler Rd., Plainfield, VT 05667; (415) 260-6890 or email at arion@ar-ion.net.

i. FERC Contact: Maryam Zavareh, (202) 502-8474, maryam.zavareh@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERC.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-5944-024.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing Moretown Hydroelectric Project consists of: (1) a 407-foot-long, 31-foot-high concrete gravity dam with a 159-foot-long overflow spillway and a crest elevation of 524.26 feet North American Vertical Datum (NAVD88); (2) a 17.5-acre impoundment; (3) a 20.3-foot-wide concrete intake structure with a 12.5-foot-wide, 15.1-foot-high trashrack; (4) a 39.4-foot-long, 8.5-foot-diameter steel penstock; (5) a 39.4-foot-long, 19.7-foot-wide concrete powerhouse containing a single 1.2-megawatt turbine-generator unit; (6) a tailrace; (7) a 105-foot-long, 12.5-kilovolt transmission line; and (8) appurtenant facilities. The Moretown Project is operated in a run-of-river mode with an average annual generation of 2,094 megawatt-hours.

m. A copy of the application can be viewed on the Commission's website at http://www.ferc.gov using the “eLibrary” link. Enter the docket number excluding the last three digits in the docket number field to access the document. For assistance, contact FERC Online Support.

All filings must (1) bear in all capital letters the title “COMMENTS”, “REPLY COMMENTS”, “RECOMMENDA-TIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

n. The applicant must file no later than 60 days following the date of issuance of this notice either: (1) evidence of the date on which the certifying agency received the certification request; (2) a copy of the water quality certification; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural schedule: The application will be processed according to the following schedule. Revisions to the schedule will be made as appropriate.

Deadline for Filing Comments, Recommendations, and Agency Terms and Conditions/Prescriptions January 2023

Licensee's Reply to REA Comments February 2023

p. Final amendments to the application must be filed with the Commission no later than 30 days from the issuance date of this notice.

Dated: November 8, 2022.
Kimberly D. Bose,
Secretary.

[FR Doc. 2022-24819 Filed 11-14-22; 8:45 am]

BILLING CODE 6717-01-P